DEPARTMENT OF HEALTH AND HUMAN SERVICES

Administration for Community Living

Notice of Federal Review of the Missouri Protection and Advocacy System (P&A)

AGENCY: Administration for Community Living, HHS.

ACTION: Notice.

SUMMARY: Representatives of the Administration on Disabilities (AoD), Administration for Community Living (ACL), will be conducting a federal review of the Missouri Protection and Advocacy System (P&A) on September 13-17, 2021. AoD is soliciting comments from interested parties on your experiences with the program, and strategies employed by P&A in meeting the needs of individuals with developmental disabilities and their families in Missouri. You are encouraged to share your experiences by way of email or telephone.

DATES: Comments must be submitted electronically or via telephone by September 22, 2021, 11:59 p.m. (EST) in order to be included in the final report.

Email: Katherine.Cargill-Willis@acl.hhs.gov.

Telephone: 202-795-7322.

FOR FURTHER INFORMATION CONTACT: Katherine Cargill-Willis, Administration for Community Living, Administration on Disabilities, 330 C Street SW, 1st Floor, Washington, DC 20201, 202-795-7322.

Dated: July 23, 2021.
Alison Barkoff,
Acting Administrator & Assistant Secretary for Aging.

[FR Doc. 2021-16131 Filed 7-28-21; 8:45 am]

BILLING CODE 4154-01-P